DEPARTMENT OF THE INTERIOR

Bureau of Ocean Energy Management

[Docket No. BOEM-2013-0020; MMAA104000]

Research Lease on the Outer Continental Shelf (OCS) Offshore Virginia, Request for Competitive Interest

AGENCY: Bureau of Ocean Energy Management (BOEM), Interior.

ACTION: Public Notice of an Unsolicited Request for an OCS Research Lease; Request for Competitive Interest (RFCI); and Request for Public Comment.

SUMMARY: The purpose of this public notice is to: (1) Describe the proposal submitted to BOEM by the Commonwealth of Virginia, Department of Mines, Minerals and Energy (DMME) to acquire an OCS lease for wind energy research activities; (2) solicit indications of interest in a renewable energy lease in the area identified by DMME for substantially similar wind energy activities; and (3) solicit public input regarding the proposal, its potential environmental consequences, and the use of the area in which the proposed project would be located.

On February 13, 2013, BOEM received an unsolicited request for a research lease from DMME. The objective of DMME is to obtain a lease under 30 CFR 585.238 for renewable energy research activities, including wind turbine installation and operational testing and the installation of metocean monitoring equipment. The objective of the DMME proposal is to design, develop, and demonstrate a grid-connected 12 megawatt (MW) offshore wind test facility on the OCS off the coast of Virginia.

This RFCI is published pursuant to subsection 8(p)(3) of the OCS Lands Act, as amended by section 388 of the Energy Policy Act of 2005 (43 U.S.C. 1337(p)(3)), and the implementing regulations at 30 CFR Part 585.

DATES: If you are submitting an indication of interest in acquiring a renewable energy lease for the area proposed by DMME, your submission must be sent by mail, postmarked no later than August 29, 2013 for your submission to be considered. If you are providing comments or other submissions of information, you may send them by mail, postmarked by this same date, or you may submit them through the Federal eRulemaking Portal at http://www.regulations.gov, also by this same date.

Submission Procedures: If you are interested in obtaining a renewable energy lease for the area requested by DMME, you should submit detailed and specific information as described in the section entitled “Required Indication of Interest Information.” Please submit this material by mail to the following address: Bureau of Ocean Energy Management, Office of Renewable Energy Programs, 381 Elden Street, HM-1328, Herndon, Virginia 20170. Submissions must be postmarked by August 29, 2013 to be considered by BOEM for the purposes of determining competitive interest. In addition to a paper copy of your submission, include an electronic copy on a compact disc. BOEM will list the parties that submit indications of interest on the BOEM Web site after the 30-day comment period has closed.

If you are submitting comments or other information concerning the proposed research lease area, you may use either of the following two methods:

1. Federal eRulemaking Portal: http://www.regulations.gov. In the entry entitled, “Enter Keyword or ID,” enter BOEM-2013-020, and then click “search.” Follow the instructions to submit public comments and view supporting and related materials available for this notice.

2. Alternatively, comments may be submitted by mail to the following address: Bureau of Ocean Energy Management, Office of Renewable Energy Programs, 381 Elden Street, HM-1328, Herndon, Virginia 20170.

If you wish to protect the confidentiality of your indication of interest or comment, clearly mark the relevant sections and request that BOEM treat them as confidential. Please label privileged or confidential information “Contains Confidential Information” and consider submitting such information as a separate attachment. Treatment of confidential information is addressed in the section of this notice entitled, “Privileged or Confidential Information.” BOEM will post all comments on the Federal eRulemaking Portal at http://www.regulations.gov unless labeled as confidential. Information that is not labeled as privileged or confidential will be regarded by BOEM as suitable for public release.

FOR FURTHER INFORMATION CONTACT: Mr. Casey Reeves, Renewable Energy Program Specialist, BOEM, Office of Renewable Energy Programs, 381 Elden Street, HM-1328, Herndon, Virginia 20170; phone (703) 787-1320.

SUPPLEMENTARY INFORMATION:

Purpose of the RFCI

Responses to this public notice will allow BOEM to determine, pursuant to subsection 8(p)(3) of the OCS Lands Act, whether or not there is competitive interest in acquiring an OCS renewable energy lease in the area requested by DMME. If BOEM receives no competing indications of interest for a lease in response to this notice, BOEM may decide to move forward with the research leasing process using the procedures described in 30 CFR 585.238(d).

This notice also provides an opportunity for interested stakeholders to comment on the proposed project and its potential impacts. BOEM will consider all comments received when deciding whether and how to move forward with the research leasing process.

DMME's Proposed Research Activities

DMME's proposed research activities are described in their unsolicited request for a research lease, which is available at the following URL: http://www.boem.gov/Renewable-Energy-Program/State-Activities/Virginia.aspx.

Description of the Proposed Research Lease Area

The proposed research lease area consists of six OCS sub-blocks (an OCS sub-block is 1,200 meters by 1,200 meters in area). The following table describes the OCS sub-blocks that comprise the proposed research lease area.

Protraction name | Protraction No. | Block No. | Sub bock
Currituck Sound | NJ18-11 | 6061 | H,L,P
Currituck Sound | NJ18-11 | 6111 | D,H,L

Map of the Area

A map of the area proposed by DMME and included in this RFCI can be found at the following URL: http://www.boem.gov/Renewable-Energy-Program/State-Activities/Virginia.aspx. A large scale map of the RFCI area showing boundaries of the area with the numbered blocks is available from BOEM at the following address: Bureau of Ocean Energy Management, Office of Renewable Energy Programs, 381 Elden Street, HM-1328, Herndon, Virginia 20170. Phone: (703) 787-1320, Fax: (703) 787-1708.

The six sub-blocks requested by DMME are located immediately adjacent to the western edge of the Virginia Wind Energy Area (WEA). The Virginia WEA, which consists of more than 19 full OCS blocks, will be offered for sale in lease sale Atlantic Wind One (ATLW1), as described in the following section.

Relationship of the DMME Proposal to the Virginia WEA

On July 23, 2013, BOEM published a Final Sale Notice (FSN) in the Federal Register, announcing the sale of a commercial wind lease on the OCS offshore Virginia (78 FR 44150-44156).

The area identified for potential commercial wind leasing in the PSN was delineated through consultation with the BOEM's Virginia Intergovernmental Task Force and is intended to balance the protection of environmentally sensitive areas and minimize space-use conflicts while maximizing the area available for commercial offshore wind development. The development of the WEA began in December 2009 and the WEA has been refined since that time, resulting in a area that avoids sensitive ecological areas offshore the barrier islands, takes advantage of Class 6 wind speeds, minimizes maritime traffic risk, avoids military operating and warning areas, and avoids a launch fallout area east of the NASA Goddard Space Flight Center's Wallops Flight Facility.

The delineation of the VA WEA was also informed by input received from stakeholders who commented on the July 12, 2011, Notice of Availability (NOA) of the draft Environmental Assessment (EA) (76 FR 40926). Among the comments received on the draft EA was a letter dated August 22, 2011, from the American Waterways Operators (AWO), a national trade association for the tugboat, towboat and barge industry. The comment requested that BOEM refrain from leasing OCS Blocks 6011, 6061, 6111, 6161, 6110, and 6160, suggesting that not leasing these blocks would “preserve an area currently used by [AWO] members during inclement weather.” Based on this concern and on an analysis of ship traffic data for larger vessels that transit the area, as well as an assessment conducted by the U.S. Coast Guard, BOEM removed these OCS blocks from consideration for commercial wind leasing prior to the publication of the Virginia Call for Information and Nominations (77 FR 5545).

In light of the concerns expressed by AWO, at this time BOEM is not considering moving forward with leasing for any wind proposals larger in scale than DMME's proposed project or outside of the area proposed by DMME. It does not appear that the proposed lease activity described in this notice would impair navigational safety. However, authorizing a wind project within OCS Blocks 6011, 6061, 6111, 6161, 6110, and 6160 larger in scale than DMME's proposed project could cause an unacceptable level of obstruction to vessel traffic. Accordingly, BOEM will not consider indication of interest larger in scale than the project proposed by DMME.

Relationship of the DMME Proposal to the Atlantic Grid Holdings LLC's ROW Grant Request

On March 31, 2011, Atlantic Grid Holdings LLC submitted an unsolicited application for a ROW grant, for a buried offshore electrical transmission cable and infrastructure. A segment of the proposed cable project that is intended to support commercial development in the Virginia WEA also occupies the project area proposed by DMME. Following publication of a notice to determine competitive interest in the project, BOEM published its determination of no competitive interest on May 15, 2012, (77 FR 28620). The application and associated notices can be found at: http://www.boem.gov/Renewable-Energy-Program/State-Activities/Regional-Proposals.aspx.

Required Indication of Interest Information

If you intend to submit an indication of interest for a renewable energy lease for the area identified in this notice you must provide the following:

(1) A statement that you wish to acquire an offshore wind lease within the proposed lease area. For BOEM to consider your indication of interest, it must include a proposal for the installation of no more than two WTGs, and may include a proposal for the installation of one or more metocean facilities. Any interest in an area located outside of the proposed research lease area should be submitted separately pursuant to 30 CFR 585.238;

(2) A general description of your objectives and the facilities that you would use to achieve those objectives;

(3) A general schedule of proposed activities;

(4) Available and pertinent data and information concerning renewable energy resources and environmental conditions in the area that you wish to lease, including energy and resource data and information used to evaluate the area of interest. Where applicable, spatial information should be submitted in a format compatible with ArcGIS 9.3 in a geographic coordinate system (NAD 83);

(5) Documentation demonstrating that you are legally qualified to hold a renewable energy lease as set forth in 30 CFR 585.106 and 107. Examples of the documentation appropriate for demonstrating your legal qualifications and related guidance can be found in Chapter 2 and Appendix B of the Guidelines for the Minerals Management Service Renewable Energy Framework available at: http://www.boem.gov/Renewable-Energy-Program/Regulatory-Information/Index.aspx. Legal qualification documents will be placed in an official file that may be made available for public review. If you wish that any part of your legal qualification documentation be kept confidential, clearly identify what should be kept confidential, and submit it under separate cover (see “Protection of Privileged or Confidential Information Section,” below); and

(6) Documentation demonstrating that you are technically and financially capable of constructing, operating, maintaining and decommissioning the facilities described in your submission. Guidance regarding the required documentation to demonstrate your technical and financial qualifications can be found at: http://www.boem.gov/Renewable-Energy-Program/Regulatory-Information/Index.aspx.

It is critical that you provide a complete submission of competitive interest, including the items identified in (1) through (6), so that BOEM may consider your submission in a timely manner. If BOEM reviews your submission and determines that it is incomplete, BOEM will inform you of this determination in writing and describe the information that BOEM wishes you to provide in order for BOEM to deem your submission complete. You will be given 15 business days from the date of the letter to provide the information that BOEM found to be missing from your original submission. If you do not meet this deadline, or if BOEM determines your second submission is also insufficient, BOEM may deem your submission invalid. In such a case, BOEM would not consider your submission.

Requested Information From Interested or Affected Parties

BOEM is also requesting from the public and other interested or affected parties specific and detailed comments regarding the following:

(1) Geological and geophysical conditions (including bottom and shallow hazards) in the area described in this notice;

(2) Known archaeological, historic, and/or cultural resource sites on the seabed in the area described in this notice;

(3) Multiple uses of the area described in this notice, including navigation (in particular, commercial vessel usage, recreation, and commercial and recreational fisheries);

(4) Potential impacts to existing communication cables;

(5) Department of Defense operational, training and testing activities (surface and subsurface) that occur in the area described in this notice that may be impacted by the proposed project;

(6) Impacts to potential future uses of the area;

(7) Advisable setback distance for other offshore structures, including other cables, renewable energy structures, oil and gas structures, etc.;

(8) The potential risk posed by anchors or other factors, and burial depths that would be required to mitigate such risks; and

(9) Other relevant environmental and socioeconomic information.

Protection of Privileged or Confidential Information

Freedom of Information Act

BOEM will protect privileged or confidential information that you submit as required by the Freedom of Information Act (FOIA). Exemption 4 of FOIA applies to trade secrets and commercial or financial information that you submit that is privileged or confidential. If you wish to protect the confidentiality of such information, clearly mark it and request that BOEM treat it as confidential. BOEM will not disclose such information, subject to the requirements of FOIA. Please label privileged or confidential information, “Contains Confidential Information,” and consider submitting such information as a separate attachment.

However, BOEM will not treat as confidential any aggregate summaries of such information or comments not containing such information. Additionally, BOEM will not treat as confidential: (1) The legal title of the nominating entity; or (2) the geographic location of facilities and the types of those facilities. Information that is not labeled as privileged or confidential will be regarded by BOEM as suitable for public release.

Section 304 of the National Historic Preservation Act (16 U.S.C. 470w-3(a))

BOEM is required, after consultation with the Secretary of the Interior, to withhold the location, character, or ownership of historic resources, if it determines that disclosure may, among other things, cause a significant invasion of privacy, risk harm to the historic resources or impede the use of a traditional religious site by practitioners. Tribal entities and other interested parties should designate information that they wish to be held as `confidential.'

Dated: July 24, 2013.
Tommy P. Beaudreau,
Director, Bureau of Ocean Energy Management.

[FR Doc. 2013-18283 Filed 7-29-13; 8:45 am]

BILLING CODE 4310-MR-P